DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forest's Lincoln County Resource Advisory Committee will meet on Wednesday, April 8, 2009 at 6 p.m. at the Forest Supervisor's Office in Libby, Montana for a business meeting. The meeting is open to the public.

DATES: April 8, 2009.

ADDRESSES: Forest Supervisor's Office, 31374 US Hwy 2, Libby, Montana.

FOR FURTHER INFORMATION CONTACT: Willie Sykes, Committee Coordinator, Kootenai National Forest at (406) 283-7694, or e-mail wsykes@fs.fed.us.

SUPPLEMENTARY INFORMATION: Agenda will include a consideration of 2009 project proposals from the Rexford Ranger District and the Fortine Ranger District and receiving public comment. If the meeting date or location is changed, notice will be posted in the local newspapers, including the Daily Interlake based in Kalispell, Montana.

Dated: March 27, 2009.
Paul Bradford,
Forest Supervisor.

[FR Doc. E9-7604 Filed 4-6-09; 8:45 am]

BILLING CODE 3410-11-M